DEPARTMENT OF TRANSPORTATION

Federal Aviation Administration

14 CFR Part 39

[Docket No. FAA-2007-0076; Directorate Identifier 2007-NM-241-AD; Amendment 39-15246; AD 2007-22-10]

RIN 2120-AA64

Airworthiness Directives; Airbus Model A330-200, A330-300, A340-200, A340-300, A340-500, and A340-600 Series Airplanes

AGENCY: Federal Aviation Administration (FAA), Department of Transportation (DOT).

ACTION: Final rule; correction.

SUMMARY: The FAA is correcting a typographical error in an existing airworthiness directive (AD) that was published in the Federal Register on November 1, 2007 (72 FR 61796). The error resulted in an error in an airplane series number identified in Table 2 of the AD. This AD applies to all Airbus Model A330-200, A330-300, A340-200, A340-300, A340-500, and A340-600 series airplanes. This AD requires repetitive detailed visual inspections for cracking of the LH (left hand) and RH (right hand) wing MLG (main landing gear) rib 6 aft bearing lugs, and repair or replacement of the MLG rib 6 fitting, if necessary.

DATES: Effective November 16, 2007.

ADDRESSES: You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is the Document Management Facility, U.S. Department of Transportation, Docket Operations, M-30, West Building Ground Floor, Room W12-140, 1200 New Jersey Avenue, SE., Washington, DC.

FOR FURTHER INFORMATION CONTACT: Tim Backman, Aerospace Engineer, International Branch, ANM-116, Transport Airplane Directorate, FAA, 1601 Lind Avenue, SW., Renton, Washington 98057-3356; telephone (425) 227-2797; fax (425) 227-1149.

SUPPLEMENTARY INFORMATION: On October 24, 2007, the FAA issued AD 2007-22-10, amendment 39-15246 (72 FR 61796, November 1, 2007), for all Airbus Model A330-200, A330-300, A340-200, A340-300, A340-500, and A340-600 series airplanes. The AD requires repetitive detailed visual inspections for cracking of the LH (left hand) and RH (right hand) wing MLG (main landing gear) rib 6 aft bearing lugs, and repair or replacement of the MLG rib 6 fitting, if necessary.

As published, Table 2 of the AD states that certain repetitive inspection intervals apply to Model “A300-300 series airplanes, except WV27.” That sentence contains a typographical error and, instead, should state that those repetitive inspection intervals apply to Model “A340-300 series airplanes, except WV27.”

No other part of the regulatory information has been changed; therefore, the final rule is not republished in the Federal Register.

The effective date of this AD remains November 16, 2007.

§ 39.13 [Corrected]

In the Federal Register of November 1, 2007, on page 61799, Table 2 of AD 2007-22-10 is corrected to read as follows:

* * * * *

Table 2.—Repetitive Inspection Intervals
Model | Interval (whichever occurs first)
A330-200 series airplanes | 300 flight cycles or 1,500 flight hours.
A330-300 series airplanes | 300 flight cycles or 900 flight hours.
A340-200 series airplanes | 200 flight cycles or 800 flight hours.
A340-300 Series airplanes, except WV27 | 200 flight cycles or 800 flight hours.
A340-300 series airplanes, WV27 | 200 flight cycles or 400 flight hours.
A340-500 and -600 series airplanes | 100 flight cycles or 500 flight hours.

* * * * *

Issued in Renton, Washington, on November 7, 2007.
Ali Bahrami,
Manager, Transport Airplane Directorate, Aircraft Certification Service.

[FR Doc. E7-22305 Filed 11-15-07; 8:45 am]

BILLING CODE 4910-13-P